DEPARTMENT OF COMMERCE

International Trade Administration

A-552-802

Certain Frozen Warmwater Shrimp from the Socialist Republic of Vietnam: Partial Rescission of the First Administrative Review

AGENCY: Import Administration, International Trade Administration, Department of Commerce.

EFFECTIVE DATE: July 27, 2006.

FOR FURTHER INFORMATION CONTACT: Cindy Robinson or Matthew Renkey, AD/CVD Operations, Office 9, Import Administration, International Trade Administration, U.S. Department of Commerce, 14th Street and Constitution Avenue, N.W., Washington D.C. 20230; telephone: (202) 482-3797 and (202) 482-2312, respectively.

SUPPLEMENTARY INFORMATION:

Background

On April 7, 2006, the Department published in the Federal Register a notice of initiation listing 84 firms for which it received timely requests for an administrative review of this antidumping duty order. See Notice of Initiation of Administrative Reviews of the Antidumping Duty Orders on Certain Frozen Warmwater Shrimp from the Socialist Republic of Vietnam and the People's Republic of China, 71 FR 17813 (April 7, 2006) (“Initiation Notice”). The period of review (POR) is July 16, 2004 through January 31, 2006.

On May 3, 2006, the following Respondents withdrew their review requests: Sao Ta Foods Joint Stock company, Fimex VN, and Sao Ta Seafood Factory (collectively, Fimex); Phuong Nam Co., Ltd.; and Vietnam Fish One Co., Ltd.

On June 2, 2006, Petitioner¹ withdrew its request for an administrative review of 27 companies, some of which were duplicate names:² Cai Doi Vam Seafood Import-Export Company (Cadovimex); Camau Frozen Seafood Processing Import Export Corporation (Camimex); Cantho Animal Fisheries Product Processing Export Enterprise (Cafatex); Coastal Fishery Development;* Coastal Fisheries Development Corporation (Cofidec);* C P Vietnam Livestock Co. Ltd.;* C P Livestock;* Cuu Long Seaproducts Limited (Cuulong Seapro); Danang Seaproducts Import Export Corporation (Seaprodex Danang); Frozen Seafoods Fty; Minh Hai Export Frozen Seafood Processing Joint Stock Company;* Minh Hai Export Frozen Seafoods Processing Joint Stock Company (Minh Hai Jostoco);* Minh Hai Joint Stock Seafoods Processing Company (Seaprodex Minh Hai); Minh Hai Sea Products Import Export Company (Seaprimiex Co); Minh Phat Seafood;* Minh Phu Seafood Corporation;* Minh Qui Seafood;* Ngoc Sinh Seafoods; Nha Trang Seaproduct Company (Nhatrang Seafoods); Phu Cuong Seafood Processing and Import Export Company Ltd. (Phu Cuong); Soc Trang Aquatic Products and General Import Export Company (Stapimex);* Soc Trang Aquatic Products and General Import Export Company (Stapimex)- 2nd address;* Tho Quang Seafood Processing & Export Company (Tho Quang); Thuan Phuoc Seafoods and Trading Corporation (Thuan Phuoc); UTXI Aquatic Products Processing Company; Viet Foods Co. Ltd.; and Vinh Loi Import Export Company (Vimexco).

¹ Ad Hoc Shrimp Trade Action Committee (“Petitioner”).

² The companies which have a “*” attached to their names are duplicate companies. Specifically, Coastal Fishery Development is the same as Coastal Fisheries Development Corporation (Cofidec); C P Vietnam Livestock Co. Ltd. is the same as C P Livestock; Minh Hai Export Frozen Seafood Processing Joint Stock Company is the same as Minh Hai Export Frozen Seafoods Processing Joint Stock Company (Minh Hai Jostoco); Minh Phat Seafood, Minh Phu Seafood Corporation, and Minh Qui Seafood are collectively known as Minh Phu Group; Soc Trang Aquatic Products and General Import Export Company (Stapimex) is the same as Soc Trang Aquatic Products and General Import Export Company (Stapimex)- 2nd address.

On June 9, 2006, Petitioner withdrew its request for an administrative review on seven additional companies:³ Agrimex; Hacota; Hoa Nam Marine Agricultural; Pataya Food Industry (Vietnam) Ltd. (Pataya); Seafood Processing Imports Exports Vietnam; Thien Ma Seafood; and Vita.

³ None of these companies are duplicate names. However, two of these companies (i.e., Thien Ma Seafood and Pataya) claimed that they made no shipments of the subject merchandise to the United States during the POR. See the Partial Rescission Section below for further discussion.

On June 20, 2006, Petitioner withdrew its request for an administrative review on one additional company, Amanda Foods (Vietnam) Ltd. (AVF), and on June 29, 2006, Petitioner withdrew its request for review for three companies appearing in its review request letter of February 28, 2006: Phuong Nam Co. Ltd.; Phuong Nam Seafood Co. Ltd.*;and Sao Ta Foods Joint Stock Company (Fimex VN). On June 30, 2006, Petitioner withdrew its review request for Can Tho Agricultural and Animal Products Import Export Company (Cataco), and Cataco withdrew its own request for review on July 3, 2006. On July 6, 2006, Cataco clarified that during the POR, it also exported under the name Can Tho Seafood Export, and that its withdrawal letter also covers that name.

Also on July 6, 2006, Petitioner withdrew its review requests for 29 additional companies: AAAS Logistics; American Container Line; Angiang Agricultural Technology Service Company; An Giang Fisheries Import and Export Joint Stock Company (Agifish); Bentre Frozen Aquaproduct Exports; Bentre Aquaproduct Imports & Exports; Can Tho Agricultural Products; Can Tho Seafood Exports; Cautre Enterprises; Dong Phuc Huynh; General Imports & Exports; Grobest & I Mei Industry Vietnam (Grobest); Hai Thuan Export Seaproducts Processing Co. Ltd.; Hai Viet; Hatrang Frozen Seaproduct Fty; Khanh Loi Trading; Kim Anh Co. Ltd.; Lamson Import-Export Foodstuffs Corporation; Saigon Orchide; Sea Product; Sonacos; Special Aquatic Products Joint Stock Company (Seaspimex); Tacvan Frozen Seafoods Processing Export Company; Thami Shipping & Airfreight; Thanh Long; Tourism Material and Equipment Company (Matourimex Hochiminh City Branch); Truc An Company; Vietnam Northern Viking Technologie Co. Ltd.; and Vilfood Co.

Partial Rescission

Pursuant to section 351.213(d)(1) of the Department's regulations, the Secretary will rescind an administrative review, in whole or in part, if a party who requested the review withdraws the request within ninety days of the date of publication of notice of initiation of the requested review.

Because the Petitioner's and certain Respondent's requests were timely, in accordance with section 351.213(d)(1) of the Department's regulations, we are rescinding this review with respect to the following 34 companies: AVF; Cadovimex; Camimex; Cafatex; Cataco; Can Tho Seafood Exports*; Coastal Fishery Development; Cofidec; C P Vietnam Livestock Co. Ltd.; C P Livestock; Cuulong Seapro; Seaprodex Danang; Fimex VN; Frozen Seafoods Fty⁴; Minh Hai Export Frozen Seafood Processing Joint Stock Company; Minh Hai Jostoco; Seaprodex Minh Hai; Seaprimiex Co; Minh Phat; Minh Phu; Minh Qui; Ngoc Sinh Seafoods (aka Ngoc Sinh Private Enterprise); Nhatrang Seafoods; Phuong Nam Co. Ltd.; Phuong Nam Seafood Co. Ltd.*; Phu Cuong; Stapimex (both addresses); Tho Quang⁵; Thuan Phuoc Seafoods and Trading Corporation; UTXI Aquatic Products Processing Company; Viet Foods Co. Ltd.; Vimexco; and Pataya. We are not rescinding the review with respect to Vietnam Fish One Co., Ltd. since Petitioners still have an active review request for that company.

⁴ Frozen Seafoods Fty is a subsidiary of Thuan Phuoc. We note that the full name of this company is Frozen Seafoods Factory No. 32. The Department included Frozen Seafoods Fty as part of the Thuan Phuoc entity when granting that entity separate rate status in the original investigation. See Notice of Amended Final Determination of Sales at Less Than Fair Value and Antidumping Duty Order: Certain Frozen Warmwater Shrimp from the Socialist Republic of Vietnam, 70 FR 5152 (February 1, 2005). In its separate rate certification filed on April 28, 2006, Thuan Phuoc reported that this relationship remained unchanged during the POR.

⁵ Tho Quang is a subsidiary of Seaprodex Danang. The Department included Tho Quang as part of the Seaprodex Danang entity when granting that entity separate rate status in the original investigation. Id. In its separate rate certification filed on May 5, 2006, Seaprodex Danang reported that this relationship remained unchanged during the POR.

In addition, the Department is rescinding this review with respect to the following 34 additional companies which did not receive a separate rate in the prior segment (the less-than-fair-value investigation) of this proceeding: Agrimex; Hacota; Hoa Nam Marine Agricultural; Seafood Processing Imports Exports Vietnam; Vita; AAAS Logistics; American Container Line; Angiang Agricultural Technology Service Company; Agifish; Bentre Frozen Aquaproduct Exports; Bentre Aquaproduct Imports & Exports*; Can Tho Agricultural Products; Cautre Enterprises; Dong Phuc Huynh; General Imports & Exports; Grobest; Hai Thuan Export Seaproducts Processing Co. Ltd.; Hai Viet; Hatrang Frozen Seaproduct Fty; Kim Anh Co. Ltd.; Lamson Import-Export Foodstuffs Corporation; Saigon Orchide; Sea Product; Sonacos; Seaspimex; Tacvan Frozen Seafoods Processing Export Company; Thami Shipping & Airfreight; Thanh Long; Matourimex Hochiminh City Branch; Truc An Company; Vietnam Northern Viking Technologie Co. Ltd.; Thien Ma Seafood; Khanh Loi Trading; and Vilfood Co. For purposes of initiation of this administrative review, the Department accepted requests for review of these entities based upon the premise that such entities would seek to demonstrate in this review that they were, in law and in fact, separate from the Vietnam-wide entity, and therefore entitled to a rate separate from the rate established for the Vietnam-wide entity. However, as the requests for review of these entities have been withdrawn, these entities may be subject to this review as part of the single Vietnam-wide entity. Therefore, the Department will provide assessment instructions to the U.S. Customs and Border Protection (“CBP”) for these entities after the final results of this administrative review.

Assessment Rates

The Department will instruct CBP to assess antidumping duties on all appropriate entries. For those companies for which this review has been rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: July 18, 2006.
Stephen J. Claeys,
Deputy Assistant Secretary for Import Administration.

[FR Doc.E6-11969 Filed 7-26-06; 8:45 am]

BILLING CODE 3510-DS-S